DEPARTMENT OF ENERGY

Federal Energy Regulatory Commission

Combined Notice of Filings #1

Take notice that the Commission received the following electric corporate filings:

Docket Numbers: EC13-77-000.

Applicants: Michigan Electric Transmission Company.

Description: Application for Approval of Acquisition of Transmission Assets under FPA Sec. 203 of METC (McGulpin, Delhi, Spaulding).

Filed Date: 3/1/13.

Accession Number: 20130301-5382.

Comments Due: 5 p.m. ET 3/22/13.

Take notice that the Commission received the following electric rate filings:

Docket Numbers: ER13-288-001.

Applicants: Entergy Arkansas, Inc.

Description: Transmission Service Monitor Compliance Filing to be effective 12/1/2012.

Filed Date: 3/1/13.

Accession Number: 20130301-5256.

Comments Due: 5 p.m. ET 3/22/13.

Docket Numbers: ER12-2292-003.

Applicants: Southwest Power Pool, Inc.

Description: Compliance Filing in ER12-2292 to be effective 3/19/2013.

Filed Date: 3/1/13.

Accession Number: 20130301-5352.

Comments Due: 5 p.m. ET 3/22/13.

Docket Numbers: ER13-1018-000.

Applicants: Brandon Shores LLC, C.P. Crane LLC.

Description: Brandon Shores LLC and C.P. Crane LLC submits Request for Waiver, Shortened Comment Period, and Expedited Consideration.

Filed Date: 3/1/13.

Accession Number: 20130301-5248.

Comments Due: 5 p.m. ET 3/15/13.

Docket Numbers: ER13-1019-000.

Applicants: South Carolina Electric & Gas Company.

Description: Central NITSA Cancellation to be effective 3/1/2013.

Filed Date: 3/1/13.

Accession Number: 20130301-5249.

Comments Due: 5 p.m. ET 3/22/13.

Docket Numbers: ER13-1020-000.

Applicants: NorthWestern Corporation.

Description: SA 254—NWE MATL TIA—1st Revised Agreement to be effective 3/1/2013.

Filed Date: 3/1/13.

Accession Number: 20130301-5318.

Comments Due: 5 p.m. ET 3/22/13.

Docket Numbers: ER13-1021-000.

Applicants: Mesquite Solar 1, LLC.

Description: Mesquite Solar 1 LLC Revised Joinder Agreement and Amendment to be effective 2/28/2013.

Filed Date: 3/1/13.

Accession Number: 20130301-5332.

Comments Due: 5 p.m. ET 3/22/13.

Docket Numbers: ER13-1022-000.

Applicants: Mesquite Power, LLC.

Description: Mesquite Power, LLC Revised Concurrence to Joinder Agreement and Amendment to be effective 2/28/2013.

Filed Date: 3/1/13.

Accession Number: 20130301-5335.

Comments Due: 5 p.m. ET 3/22/13.

Docket Numbers: ER13-1023-000.

Applicants: PJM Interconnection, L.L.C.

Description: Revisions to PJM's OATT Att DD 5.14 re NEPA Correction & Contingent Sell Offer to be effective 5/1/2013.

Filed Date: 3/1/13.

Accession Number: 20130301-5350.

Comments Due: 5 p.m. ET 3/22/13.

Docket Numbers: ER13-1025-000.

Applicants: Calpine Energy Services LP.

Description: Calpine Energy Services, L.P. submits Request for Limited Waiver.

Filed Date: 3/1/13.

Accession Number: 20130301-5394.

Comments Due: 5 p.m. ET 3/22/13.

Docket Numbers: ER13-1026-000.

Applicants: PPL Electric Utilities Corporation.

Description: Application of PPL Electric Utilities Corporation under section 205 for implementation of 100% CWIP for Northeast/Pocono Reliability Project.

Filed Date: 3/1/13.

Accession Number: 20130301-5396.

Comments Due: 5 p.m. ET 3/22/13.

Docket Numbers: ER13-1027-000.

Applicants: FirstEnergy Solutions Corp.

Description: Application of FirstEnergy Solutions Corp. for Authorization to Make Wholesale Power Sales to its Affiliate, The Potomac Edison Company.

Filed Date: 3/1/13.

Accession Number: 20130301-5400.

Comments Due: 5 p.m. ET 3/22/13.

Take notice that the Commission received the following open access transmission tariff filings:

Docket Numbers: OA07-28-006.

Applicants: Avista Corporation.

Description: Avista Corporation's Informational Filing of Operational Penalty Assessments and Distributions as Required by Order Nos. 890 and 890-A.

Filed Date: 3/1/13.

Accession Number: 20130301-5397.

Comments Due: 5 p.m. ET 3/22/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 4, 2013.
Nathaniel J. Davis, Sr.,
Deputy Secretary.

[FR Doc. 2013-05629 Filed 3-11-13; 8:45 am]

BILLING CODE 6717-01-P